DEPARTMENT OF HEALTH AND HUMAN SERVICES

Centers for Disease Control and Prevention

[Docket No. CDC-2022-0028]

Draft Infection Control in Healthcare Personnel: Epidemiology and Control of Selected Infections Transmitted Among Healthcare Personnel and Patients: Rabies Section

AGENCY: Centers for Disease Control and Prevention (CDC), Department of Health and Human Services (HHS).

ACTION: Notice with comment.

SUMMARY: The Centers for Disease Control and Prevention (CDC), in the Department of Health and Human Services (HHS), announces the opening of a docket to obtain comment on the Draft Infection Control in Healthcare Personnel: Epidemiology and Control of Selected Infections Transmitted Among Healthcare Personnel and Patients: Rabies Section (Draft Guideline: Rabies Section). The Draft Guideline: Rabies Section updates the Rabies section of the Guideline for infection control in health care personnel, 1998 (1998 Guideline), Part E: Epidemiology and Control of Selected Infections Transmitted Among Health Care Personnel and Patients and its corresponding recommendations in Part II of the 1998 Guideline: “14. Rabies.” The updated recommendations in the Draft Guideline: Rabies Section are intended for use by the leaders and staff of occupational health services. These updated recommendations will help facilitate the provision of occupational infection prevention and control services to healthcare personnel (HCP) who have been exposed or infected and may be contagious to others in the workplace.

DATES: Written comments must be received on or before April 25, 2022.

ADDRESSES: You may submit comments, identified by Docket No. CDC-2022-0028, by either of the following methods:

• Federal eRulemaking Portal: http://www.regulations.gov. Follow the instructions for submitting comments.

• Mail: Healthcare Infection Control Practices Advisory Committee (HICPAC) Secretariat, Division of Healthcare Quality Promotion, Centers for Disease Control and Prevention, 1600 Clifton Rd. NE, Mailstop H16-3, Atlanta, Georgia 30329, Attn: Docket No. CDC-2022-xxxx.

Instructions: Submissions via http://regulations.gov are preferred. All submissions received must include the Agency name and Docket Number. All relevant comments received will be posted without change to http://regulations.gov, including any personal information provided. For access to the docket to read background documents or comments received, go to http://www.regulations.gov. Do not submit comments by email. CDC does not accept comments by email.

FOR FURTHER INFORMATION CONTACT: Laura Wells, Division of Healthcare Quality Promotion, Centers for Disease Control and Prevention, 1600 Clifton Road NE, Mailstop H16-2, Atlanta, Georgia 30329; Telephone: (404) 639-4000.

SUPPLEMENTARY INFORMATION:

Public Participation

Interested persons or organizations are invited to participate by submitting written views, recommendations, and data related to the Draft Guideline: Rabies Section. Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact or withhold submissions containing private or proprietary information such as Social Security numbers, medical information, inappropriate language, or duplicate/near duplicate examples of a mass-mail campaign. CDC will carefully consider all comments submitted in preparation of the final Infection Control in Healthcare Personnel: Epidemiology and Control of Selected Infections Transmitted Among Healthcare Personnel and Patients: Rabies Section and may revise the final document as appropriate.

Background

The Draft Guideline: Rabies Section, located in the “Supporting & Related Material” tab of the docket, updates the Rabies section of the 1998 Guideline, Part E: Epidemiology and Control of Selected Infections Transmitted Among Health Care Personnel and Patients and its corresponding recommendations in Part II of the 1998 Guideline: “14. Rabies.” That section provided information and recommendations for occupational health services of healthcare facilities and systems on the prevention of transmission of infectious diseases among HCP and patients. The 1998 Guideline can be found at https://stacks.cdc.gov/view/cdc/11563. This Draft Guideline: Rabies Section update is part of a larger guideline update: Infection Control in Healthcare Personnel. Part I, Infrastructure and Routine Practices for Occupational Infection Prevention and Control Services (2019) and the Diphtheria, Group A Streptococcus, Meningococcal Disease, and Pertussis sections of Part II, Epidemiology and Control of Selected Infections Transmitted Among Healthcare Personnel and Patients (2021) are published on the CDC Infection Control Guideline website and can be found at https://www.cdc.gov/infectioncontrol/guidelines/healthcare-personnel/index.html.

The Draft Guideline: Rabies Section, once finalized, is intended for use by the leaders and staff of occupational health services to guide the management of exposed or infected HCP who may be contagious to others in the workplace. The draft recommendations in Draft Guideline: Rabies Section update the 1998 recommendations with current guidance on the management of HCP exposed to rabies or HCP potentially infected with rabies, focusing on postexposure management, including postexposure prophylaxis, for exposed HCP and work restrictions for exposed or infected HCP.

Since 2015, the Healthcare Infection Control Practices Advisory Committee (HICPAC) has worked with national partners, academicians, public health professionals, healthcare providers, and other partners to develop Infection Control in Healthcare Personnel (https://www.cdc.gov/infectioncontrol/guidelines/healthcare-personnel/index.html) as a segmental update of the 1998 Guideline. HICPAC is a federal advisory committee appointed to provide advice and guidance to HHS and CDC regarding the practice of infection control and strategies for surveillance, prevention, and control of healthcare-associated infections, antimicrobial resistance and related events in U.S. healthcare settings. HICPAC includes representatives from public health, infectious diseases, regulatory and other federal agencies, professional societies, and other interested community members. Draft Guideline: Rabies Section, once finalized, will be the next section to be posted to the Infection Control in Healthcare Personnel website.

The updated draft recommendations in Draft Guideline: Rabies Section are informed by reviews of the 1998 Guideline; CDC resources (e.g., CDC Rabies website), guidance, and guidelines; and new scientific evidence, when available. CDC is seeking feedback on revisions or additions to consider for the recommendations and narrative in the Draft Guideline: Rabies Section. Please provide references to new evidence and justification to support any suggested revisions or additions. This Draft Guideline: Rabies Section is not a federal rule or regulation.

Dated: February 16, 2022.
Angela K. Oliver,
Executive Secretary, Centers for Disease Control and Prevention.

[FR Doc. 2022-03768 Filed 2-22-22; 8:45 am]

BILLING CODE 4163-18-P